DEPARTMENT OF TRANSPORTATION

National Highway Traffic Safety Administration

[Docket No. NHTSA-2006-24668]

Notice of Technical Workshop and Seminar—Tuesday, July 11, 2006

AGENCY: National Highway Traffic Safety Administration (NHTSA), DOT.

ACTION: Notice of meeting.

SUMMARY: This notice announces that NHTSA will hold a technical workshop to present information and answer questions on the Office of Vehicle Safety Compliance (OVSC) Laboratory Test Procedure (TP) for the agency's safety standard on new pneumatic radial tires for use on motor vehicles (other than motorcycles and low speed vehicles) that have a gross vehicle weight rating (GVWR) of 10,000 pounds or less. The one-day technical workshop will be limited to discussing the TP, and will include a tour of a local compliance test laboratory and a working lunch. Tire manufacturers, tire importers, vehicle manufacturers, tire suppliers, tire testers, and other interested persons with technical interest and knowledge of light vehicle tire compliance testing are invited to attend. Attendance requires registration and a small fee.

Dates and Time: The technical workshop and tour will be held on July 11, 2006 from 8:30 a.m. to 5 p.m.

ADDRESSES: The technical workshop will be held at the Sheraton Suites Akron/Cuyahoga Falls, 1989 Front Street, Cuyahoga Falls, OH 44221.

FOR FURTHER INFORMATION CONTACT: For registration, contact Ms. Lorri Hamn, Office of Vehicle Safety Compliance, NVS-222, National Highway Traffic Safety Administration, 400 Seventh Street, SW., Washington, DC 20590, telephone (202) 366-9896, facsimile (202) 493-2266, or electronic mail lorri.hamn@nhtsa.dot.gov.

For technical issues, contact Mr. George Gillespie, at the same address, telephone (202) 366-5299, facsimile (202) 366-7097, or electronic mail george.gillespie@nhtsa.dot.gov.

SUPPLEMENTARY INFORMATION: FMVSS No. 139: On January 6, 2006, NHTSA published a final rule (70 FR 18136) responding to petitions for reconsideration of Federal Motor Vehicle Safety Standard (FMVSS) No. 139, New pneumatic radial tires for light vehicles. The final rule applies to new pneumatic radial tires manufactured for use on motor vehicles that have a gross vehicle weight rating (GVWR) of 10,000 pounds or less manufactured after 1975, but does not apply to tires for use on new pneumatic light truck tires with a tread depth of 18/32 inch or greater, ST or FI tires, tires that use a 8-12 inch rim or lower diameter code tires, tires for use on low speed vehicles' or for tires used on motorcycles manufactured after 1948. OVSC's test procedures for FMVSS No. 139, TP-139-02, are available on NHTSA's Web site: http://nhtsa.gov/portal/site/nhtsa/menuitem.b166d5602714f9a73baf3210dba046a0/.

Workshop: The technical workshop will discuss the tire marking inspection and performance testing requirements of TP-139-02.

Agenda: The workshop will begin at 8:30 a.m. and conclude by 5 p.m. The agenda includes a working lunch and a tour at one of the local tire compliance test labs under contract to OVSC. The following is a preliminary agenda for the workshop.

I. Background: FMVSS No. 139 and granted Petitions for Reconsideration.

II. OVSC Test Procedure TP-139 Purpose and Content.

III. Tire Markings.

IV. Performance Testing (high speed, endurance and low pressure performance tests).

V. Compliance Plans (FY-2006 to FY-2009): Tire Selection, Test Results and Test Reporting.

VI. Questions & Answers.

Interested parties may submit written suggestions to the agency for inclusion under agenda items or discussion topics, however, these items or topics are limited to inspection of tire markings or dynamic performance testing under TP-139 compliance testing. Copies of all written submissions and the final agenda will be placed in the docket for this notice.

Tour: NHTSA will conduct tours of its contractor's facilities. An attendee will be able to tour either Standards Testing Labs in Massillon, Ohio or Smithers Scientific Services in Ravenna, Ohio, but not both. NHTSA will assign each registered attendee to a specific tour; subject matter and information will be identical at both labs and limited to highlighting testing under TP-139. Each attendee should notify NHTSA during registration of their preference to use NHTSA transportation or to provide his or her own.

Sheraton Suites Akron/Cuyahoga Falls: The phone number for Sheraton Suites Akron/Cuyahoga Falls is 330-929-3000. Directions to the meeting location and a final agenda will be sent to each participant who has registered. If any attendee chooses to stay at the Sheraton Suites Akron/Cuyahoga Falls, a limited number of rooms are available at a discounted rate under the name “U.S. Department of Transportation” or “NHTSA Workshop;” there will be rooms available under this block until June 10, 2006.

Submission of Agenda Items: You may submit agenda items or comments identified by DOT DMS Docket Number NHTSA 2006-24668 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number for this technical workshop notice. Note that all comments received will be posted without change to http://dms.dot.gov, including any personal information provided.

Docket: For access to the docket to read comments received, go to http://dms.dot.gov at any time or to Room PL-401 on the plaza level of the Nassif Building, 400 Seventh Street, SW., Washington, DC, between 9 a.m. and 5 p.m., Monday through Friday, except Federal holidays.

To Register for This Workshop: Each person wishing to participate in the workshop must register with NHTSA by June 2, 2006. You can register by contacting Ms. Lorri Hamn on or before June 2, 2006; Ms. Hamn's contact information is listed above. To register, you must provide NHTSA with the name, title, organizational affiliation, contact information (mailing address, phone numbers (voice and fax), and email address), and a registration fee of $25.00 in check form payable to “Sheraton Suites Akron/Cuyahoga Falls” with the attendee's name on the check. Due to space restrictions, the number of attendees is limited to eight persons per company, however, after registration is completed, this limitation may be relaxed depending on space available.

You will be contacted only if this meeting is postponed or canceled.

Claude H. Harris,
Director, Office of Vehicle Safety Compliance.

[FR Doc. E6-6790 Filed 5-4-06; 8:45 am]

BILLING CODE 4910-59-P